NUCLEAR REGULATORY COMMISSION

[Docket 72-1014]

Holtec International; Issuance of Environmental Assessment and Finding of No Significant Impact Regarding the Request for Exemption From Requirements of 10 CFR Part 72; Correction

AGENCY: U.S. Nuclear Regulatory Commission.

ACTION: Correction.

SUMMARY: This document corrects a notice appearing in the Federal Register on January 19, 2000 (65 FR 2995). This action is necessary to correct an erroneous Unit number.

FOR FURTHER INFORMATION CONTACT: Thomas Matula, Office of Nuclear Material Safety and Safeguards, Washington, D.C. 20555-0001, telephone 301-415-8563, e-mail tom1@nrc.gov.

SUPPLEMENTARY INFORMATION: On page 2995, in the center column, in the last sentence, “Units 2 and 3” is corrected to read “Unit 1”.

Dated at Rockville, Maryland, this 23rd day of February 2000.
For the Nuclear Regulatory Commission.
E. William Brach,
Director, Spent Fuel Project Office, Office of Nuclear Material Safety and Safeguards.

[FR Doc. 00-5018 Filed 3-1-00; 8:45 am]

BILLING CODE 7590-01-P